DEPARTMENT OF TRANSPORTATION

Federal Aviation Administration

Advisory Circular 120-79, Developing and Implementing a Continuing Analysis and Surveillance System

AGENCY: Federal Aviation Administration (FAA) DOT.

ACTION: Notice of availability.

SUMMARY: This notice announces the issuance and availability of Advisory Circular (AC) 120-79, “Developing and Implementing a Continuing Analysis and Surveillance System”. AC 120-79 provides information on how to implement a continuing and analysis and surveillance system (CASS) that is required for certain types of air carriers and commercial operators under Title 14 of the Code of Federal Regulations §§ 121.373 and 135.431. A CASS is a quality management system for air carriers and commercial operators that monitors and analyzes the performance and effectiveness of inspection and maintenance programs.

DATES: Advisory Circular 120-79, Developing and Implementing a Continuing Analysis and Surveillance System was issued by the Office of the Director, Flight Standards Service, AFS-1 on April 21, 2003.

FOR FURTHER INFORMATION CONTACT: Russell S. Unangst, Jr., Technical Advisor for Aircraft Maintenance, AFS-304, Federal Aviation Administration, Aircraft Maintenance Division, Flight Standards Service, 800 Independence Ave., SW., Washington, DC 20591; telephone (202) 267-3786; facsimile (202) 267-5115, e-mail russell, unangst@faa.gov.

SUPPLEMENTARY INFORMATION: How to Obtain a Copy of the AC or How to Obtain Copies: This AC can be read or downloaded from the Internet at http://www2.faa.gov/avr/afs/index.cfm under the “All Advisory Circulars” hyperlink. Paper copies of the AC will be available in approximately 6-8 weeks from the U.S. Department of Transportation, Subsequent Distribution Office, SVC-121.23, Ardmore East Business Center, 3341 Q 75th Avenue, Landover, MD 20785.

Issued in Washington, DC, on March 25, 2003.
Carol E. Giles,
Assistant Manager, Aircraft Maintenance Division, Flight Standards Service.

[FR Doc. 03-10835 Filed 5-1-03; 8:45 am]

BILLING CODE 4910-13-M